DEPARTMENT OF TRANSPORTATION

Federal Railroad Administration

49 CFR Part 214

[Docket No. FRA-2008-0059, Notice No. 6]

RIN 2130-AC37

Railroad Workplace Safety; Adjacent-Track On-Track Safety for Roadway Workers

AGENCY: Federal Railroad Administration (FRA), Department of Transportation (DOT).

ACTION: Petitions for reconsideration; response status.

SUMMARY: This document provides notice that, due to the complex issues raised in both the petitions for reconsideration of the final rule published November 30, 2011, and the comments received on the petitions, FRA continues to formulate an appropriate response to the petitions and comments. FRA's response will be published as soon as practicable and will be filed in the same docket.

FOR FURTHER INFORMATION CONTACT: Kenneth Rusk, Staff Director, Track Division, Office of Safety Assurance and Compliance, FRA, 1200 New Jersey Avenue SE., RRS-15, Mail Stop 25, Washington, DC 20590 (telephone 202-493-6236); or Anna Winkle, Trial Attorney, Office of Chief Counsel, FRA, 1200 New Jersey Avenue SE., RCC-12, Mail Stop 10, Washington, DC 20590 (telephone 202-493-6166 or 202-493-6052).

SUPPLEMENTARY INFORMATION: On November 30, 2011, FRA published a final rule concerning adjacent-track on-track safety for roadway workers. See Docket No. FRA-2008-0059, Notice No. 4 at 76 FR 74586. In response, FRA received two petitions for reconsideration (Petitions) that raised substantive issues. One of the Petitions included a request for a delay in the effective date of the final rule until July 1, 2013.

On March 8, 2012, FRA published a final rule delaying the effective date of the November 30, 2011, final rule until July 1, 2013, and establishing a 60-day comment period in order to permit interested parties an opportunity to respond to the Petitions. See 77 FR 13978. FRA received five comments on the Petitions, some of which raise additional substantive issues or provide further detailed information on the issues already raised. The Petitions and comments on the Petitions are available for review in the docket for this rulemaking, and have been assigned identification numbers of FRA-2008-0059-0031 and FRA-2008-0059-0032, for the Petitions, and identification numbers of FRA-2008-0059-0034, FRA-2008-0059-0035, FRA-2008-0059-0036, FRA-2008-0059-0037, and FRA-2008-0059-0038, for the comments on the Petitions.

Due to the complex issues raised and extensive estimates provided in the Petitions and comments, FRA continues to formulate an appropriate response. FRA's response to the Petitions and comments will be published as soon as practicable and will be filed in the same docket.

Issued in Washington, DC, on August 27, 2012.
Jo Strang,
Associate Administrator for Railroad Safety/Chief Safety Officer.

[FR Doc. 2012-21585 Filed 8-30-12; 8:45 am]

BILLING CODE 4910-06-P